DEPARTMENT OF THE TREASURY

Internal Revenue Service

Cancelled Open Meeting of the Wage & Investment Reducing Taxpayer Burden (Notices) Issue Committee of the Taxpayer Advocacy Panel

AGENCY: Internal Revenue Service (IRS), Treasury.

ACTION: Notice.

SUMMARY: An open meeting of the Wage & Investment Reducing Taxpayer Burden (Notices) Issue Committee of the Taxpayer Advocacy Panel (via teleconference) has been cancelled. The Taxpayer Advocacy Panel is soliciting public comments, ideas and suggestions on improving customer service at the Internal Revenue Service.

DATES: The meeting, which would have been held, Thursday, June 2, 2005, from 12 p.m. to 1 p.m. E.T., is hereby cancelled.

FOR FURTHER INFORMATION CONTACT: Sallie Chavez at 1-888-912-1227 or 954-423-7979.

SUPPLEMENTARY INFORMATION: Notice is hereby given pursuant to section 10(a)(2) of the Federal Advisory Committee Act, 5 U.S.C. App. (1988) that an open meeting of the Wage & Investment Reducing Taxpayer Burden (Notices) Issue Committee of the Taxpayer Advocacy Panel that was published in the Federal Register on May 10, 2005, has been cancelled. If you have any questions regarding this cancellation please contact Ms. Sallie Chavez. Ms. Chavez can be reached at 1-888-912-1227 or 954-423-7979, or post comments to the Web site: http://www.improveirs.org.

Dated: May 19, 2005.
Martha Curry,
Acting Director, Taxpayer Advocacy Panel.

[FR Doc. E5-2598 Filed 5-23-05; 8:45 am]

BILLING CODE 4830-01-P